COMMISSION ON CIVIL RIGHTS

Notice of Public Meeting of the Texas Advisory Committee

AGENCY: U.S. Commission on Civil Rights.

ACTION: Announcement of meetings.

SUMMARY: Notice is hereby given, pursuant to the provisions of the rules and regulations of the U.S. Commission on Civil Rights (Commission) and the Federal Advisory Committee Act (FACA) that the Texas Advisory Committee (Committee) will hold a series of meetings via teleconference on Thursday, October 1, 2020 and Thursday, October 15, 2020 at 3:00 p.m., and Wednesday, October 28, 2020 at 12:00 p.m. Central Time. The purpose of the meetings is for the committee to plan upcoming online panels on Government Response to Hurricane Disasters.

DATES: The meetings will be held on:

• Thursday, October 1, 2020 at 3:00 p.m. CDT.

• Thursday, October 15, 2020 at 3:00 p.m. CDT.

• Wednesday, October 28, 2020 at 12:00 p.m. CDT.

Public Call Information:

Dial: 866-248-8441.

Conference ID: 1895260.

FOR FURTHER INFORMATION CONTACT: Brooke Peery, Designated Federal Officer (DFO) at bpeery@usccr.gov or (202) 701-1376.

SUPPLEMENTARY INFORMATION: This meeting is available to the public through the following toll-free call-in number: 866-248-8441, conference ID number: 1895260. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-877-8339 and providing the Service with the conference call number and conference ID number.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012 or email Brooke Peery (DFO) at bpeery@usccr.gov.

Records and documents discussed during the meeting will be available for public viewing prior to and after the meeting at https://www.facadatabase.gov/FACA/FACAPublicViewCommitteeDetails?id=a10t0000001gzkoAAA.

Please click on the “Meeting Details” and “Documents” links. Records generated from this meeting may also be inspected and reproduced at the Regional Programs Unit, as they become available, both before and after the meeting. Persons interested in the work of this Committee are directed to the Commission's website, https://www.usccr.gov, or may contact the Regional Programs Unit at the above email or street address.

Agenda

I. Welcome & Introductions

II. Approval of Minutes

III. Discussion of Panels

IV. Public Comment

V. Adjournment

Dated: September 14, 2020.
David Mussatt,
Supervisory Chief, Regional Programs Unit.

[FR Doc. 2020-20526 Filed 9-16-20; 8:45 am]

BILLING CODE 6335-01-P